DEPARTMENT OF ENERGY

Federal Energy Regulatory Commission

[Docket No. CP01-409-000]

Calypso Pipeline, L.L.C.; Notice of new Meeting Date and Site Visit

September 21, 2001.

The Office of Energy Projects (OEP) staff announces that the public scoping meeting for the proposed Calypso Natural Gas Pipeline Project Environmental Impact Statement, originally scheduled for September 12, 2001, has been rescheduled for October 10, 2001. The new date, location, and time for this meeting is listed below.

Schedule for the Calypso Natural Gas Pipeline Project Environmental Impact Statement Public Scoping Meeting
Date and time | Location | Phone
October 10, 2001 at 7:00 p.m. | I.T. Parker Community Center, 901 N.E. Third Street, Dania Beach, FL 33004 | (954) 924-3698

On the date of the meeting, staff will also be visiting some project areas. Anyone interested in participating in a site visit may contact the Commission's Office of External Affairs for more details and must provide their own transportation.

For additional information, contact the Commission's Office of External Affairs at (202) 208-1088.

David P. Boergers,
Secretary.

[FR Doc. 01-24141 Filed 9-26-01; 8:45 am]

BILLING CODE 6717-01-P